DEPARTMENT OF LABOR

Employment and Training Administration

Notice of a Change in Status of the Extended Benefit (EB) Program for Ohio

AGENCY: Employment and Training Administration, Labor.

ACTION: Notice.

This notice announces a retroactive change in benefit period eligibility under the EB program for Ohio. The following changes have occurred since the publication of the last notice regarding the State's EB status:

Based on Ohio's State law, which provides for the temporary adoption of the optional TUR trigger during periods of 100 percent Federal financing, and data released by the Bureau of Labor Statistics on May 22, 2020, the seasonally-adjusted total unemployment rate for Ohio rose to meet the 8.0 percent threshold to trigger “on” to a high unemployment period in EB. The payable period for Ohio under the high unemployment period is retroactive to June 7, 2020, and eligibility for claimants has been extended from up to 13 weeks of potential duration to up to 20 weeks of potential duration in the EB program.

The trigger notice covering state eligibility for the EB program can be found at: http://ows.doleta.gov/unemploy/claims_arch.as.

Information for Claimants

The duration of benefits payable in the EB program, and the terms and conditions on which they are payable, are governed by the Federal-State Extended Unemployment Compensation Act of 1970, as amended, and the operating instructions issued to the states by the U.S. Department of Labor. In the case of a state beginning an EB period, the State Workforce Agency will furnish a written notice of potential entitlement to each individual who has exhausted all rights to regular benefits and is potentially eligible for EB (20 CFR 615.13(c)(1)).

Persons who believe they may be entitled to EB, or who wish to inquire about their rights under the program, should contact their State Workforce Agency.

FOR FURTHER INFORMATION CONTACT: U.S. Department of Labor, Employment and Training Administration, Office of Unemployment Insurance, Room S-4524, Attn: Kevin Stapleton, 200 Constitution Avenue NW, Washington, DC 20210, telephone number (202)-693-3009 (this is not a toll-free number) or by email: Stapleton.Kevin@dol.gov.

Signed in Washington, DC.
John Pallasch,
Assistant Secretary for Employment and Training.

[FR Doc. 2020-14353 Filed 7-2-20; 8:45 am]

BILLING CODE 4510-FW-P